DEPARTMENT OF DEFENSE

Department of the Army

Privacy Act of 1974; System of Records

AGENCY: Department of the Army, DoD.

ACTION: Notice to amend a system of records.

SUMMARY: The Department of the Army is amending a system of records notice in its existing inventory of records systems subject to the Privacy Act of 1974, (5 U.S.C. 552a), as amended.

The category of records entry is being amended to better define those individual pieces of data contained in the reports maintained in the system.

DATES: This proposed action will be effective without further notice on April 22, 2002, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: March 15, 2002.
Patricia L. Toppings,
Alternate OSD Federal Register Liaison Officer, Department of Defense.

A0380-13 DAMO

System name:

Local Criminal Intelligence Files (February 22, 1993, 58 FR 10002).

Changes:

System identifier:

Delete entry and replace with ‘A0190-45a DAMO’.

* * * * *

Categories of individuals covered by the system:

Delete entry and replace with ‘Any individual suspected or involved in criminal activity directed against or involving the United States Army.’

Categories of records in the system:

Add to entry ‘Information includes subject’s name, aliases, addresses, phone number, date of birth, source of investigation, risk analysis, reports, threat assessments, retention control sheets, victims names, names of informants, names of law enforcement officers and investigators, and subject's group affiliations, if any.’

* * * * *

Routine uses of records maintained in the system, including categories of users and the purposes of such uses:

Delete second paragraph. Any release of information from this system of records for law enforcement purposes is covered under the DoD “Blanket Routine Use” for law enforcement.

* * * * *

Retrievability:

Delete entry and replace with ‘By individual’s name, Social Security Number, and/or date of birth.’

* * * * *

A0190-45a DAMO

System name:

Local Criminal Intelligence Files.

System location:

At all designated Army commands, installations and activities. Official mailing addresses are published as an appendix to the Army's compilation of systems of records notices.

Categories of individuals covered by the system:

Any individual suspected or involved in criminal activity directed against or involving the United States Army.

Categories of records in the system:

Reports and supporting documents of criminal activity directed against or involving the U.S. Army. Information includes subject's name, aliases, addresses, phone number, date of birth, source of investigation, risk analysis, reports, threat assessments, retention control sheets, victims names, names of informants, names of law enforcement officers and investigators, and subject's group affiliations, if any.

Authority for maintenance of the system:

10 U.S.C. 3013, Secretary of the Army; Army Regulation 380-13, Acquisition and Storage of Information Concerning Non-Affiliated Persons and Organizations; Army Regulation 190-45, Law Enforcement Reporting; Army Regulation 195-2, Criminal Investigation Activities; and E.O. 9397 (SSN).

Purpose(s):

To enable designated Army officials, commanders, or civil criminal justice agencies to meet their responsibilities maintaining law and order through investigation and possible judicial action. To identify individuals in an effort to anticipate, prevent or monitor possible criminal activity directed against or involving the U.S. Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders; magnetic tape/disc, and on electronic storage media.

Retrievability:

By individual's name, Social Security Number, and/or date of birth.

Safeguards:

Only authorized personnel have access to files. Physical security measures include locked containers/storage areas, controlled personnel access, and continuous presence of authorized personnel.

Retention and disposal:

Criminal intelligence reports and cross-index cards belonging to the Headquarters, Criminal Investigation Division, are destroyed when no longer needed, except for reports of current operational value. These reports are reviewed yearly for continued retention, not to exceed 20 years, and then destroy. The records maintained at the Regional Headquarters are destroyed after 5 years. Records maintained at District, field office and elements designated by region commanders are destroyed after 3 years or when no longer needed.

System manager(s) and address:

Deputy Chief of Staff for Operations and Plans, Military Operations, 400 Army Pentagon, Washington, DC 20310-0400.

Notification procedure:

Individuals seeking to determine whether information about themselves is contained in this system should address written inquiries to the Deputy Chief of Staff for Operations and Plans, Military Operations, 400 Army Pentagon, Washington, DC 20310-0400.

Individual should provide their full name, Social Security Number, date of birth, and address.

Record access procedures:

Individuals seeking access to information about themselves contained in this system should address written inquiries to the Deputy Chief of Staff for Operations and Plans, Military Operations, 400 Army Pentagon, Washington, DC 20310-0400.

Individual should provide their full name, Social Security Number, date of birth, and address.

Contesting record procedures:

The Army's rules for accessing records, and for contesting contents and appealing initial agency determinations are contained in Army Regulation 340-21; 32 CFR part 505; or may be obtained from the system manager.

Record source categories:

Subjects, witnesses, victims, Military Police and U.S. Army Criminal Investigation Command personnel and special agents, informants, various Department of Defense, federal, state and local investigative and law enforcement agencies, departments or agencies of foreign governments, and any other individuals or organizations which may supply pertinent information.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. 02-6834 Filed 3-20-02; 8:45 am]

BILLING CODE 5001-08-P